DEPARTMENT OF TRANSPORTATION

Federal Motor Carrier Safety Administration

[Docket No. FMCSA-2015-0328]

Qualification of Drivers; Application for Exemptions; Hearing

AGENCY: Federal Motor Carrier Safety Administration (FMCSA).

ACTION: Notice of applications for exemptions; request for comments.

SUMMARY: FMCSA announces receipt of applications from 25 individuals for an exemption from the hearing requirement to operate commercial motor vehicles (CMVs) in interstate commerce. If granted, the exemptions would enable these individuals to operate CMVs in interstate commerce.

DATES: Comments must be received on or before April 6, 2016.

ADDRESSES: You may submit comments bearing the Federal Docket Management System (FDMS) Docket No. FMCSA-2015-0328 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The Federal Docket Management System (FDMS) is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays.

SUPPLEMENTARY INFORMATION:

I. Background

Under 49 U.S.C. 31136(e) and 31315, FMCSA may grant an exemption from the Federal Motor Carrier Safety Regulations (FMCSRs) for a 2-year period if it finds “such exemption would likely achieve a level of safety that is equivalent to or greater than the level that would be achieved absent such exemption.” The statute also allows the Agency to renew exemptions at the end of the 2-year period. The 25 individuals listed in this notice have recently requested such an exemption from the hearing requirement in 49 CFR 391.41(b)(11), which applies to drivers of CMVs in interstate commerce. Accordingly, the Agency will evaluate the qualifications of each applicant to determine whether granting the exemption will achieve the required level of safety mandated by statute.

The physical qualification standard for drivers regarding hearing found in 49 CFR 391.41(b)(11) states that a person is physically qualified to drive a CMV if that person:

First perceives a forced whispered voice in the better ear at not less than 5 feet with or without the use of a hearing aid or, if tested by use of an audiometric device, does not have an average hearing loss in the better ear greater than 40 decibels at 500 Hz, 1,000 Hz, and 2,000 Hz with or without a hearing aid when the audiometric device is calibrated to American National Standard (formerly ASA Standard) Z24.5-1951.

This standard was adopted in 1970 and was revised in 1971 to allow drivers to be qualified under this standard while wearing a hearing aid, 35 FR 6458, 6463 (April 22, 1970) and 36 FR 12857 (July 3, 1971).

II. Qualifications of Applicants

Eduardo Amaro

Mr. Amaro, age 47, holds an operator's license in New Mexico.

Paul Aseka

Mr. Aseka, age 36, holds an operator's license in Texas.

Thomas Buretz

Mr. Buretz, age 54, holds a class A CDL in Florida.

Tye Cox

Mr. Cox, age 28, holds an operator's license in Idaho.

James Dalrymple

Mr. Dalrymple, age 61, holds a class A CDL in Arizona.

John Dumars

Mr. Dumars, age 53, holds an operator's license in Florida.

Aaron Farley

Mr. Farley, age 42, holds an operator's license in West Virginia.

Samuel Fernell

Mr. Fernell, age 47, holds an operator's license in Ohio.

Heath Focken

Mr. Focken, age 27, holds an operator's license in Nebraska.

Michael Frutchey

Mr. Frutchey, age 48, holds a chauffeur license in Michigan.

Gregg Glass

Mr. Glass, age 53, holds an operator's license in Oregon.

Jaymes Haar

Mr. Haar, age 28, holds a class A CDL in Iowa.

Michael McCarthy

Mr. McCarthy, age 51, holds an operator's license in Minnesota.

Chad Meeker

Mr. Meeker, age 39, holds a CDL in Michigan.

John Norton

Mr. Norton, age 51, holds an operator's license in Michigan.

Taryn Peterson

Mr. Peterson, age 28, holds an operator's license in Nebraska.

Stephen Paiz

Mr. Paiz, age 31, holds an operator's license in New York.

David Quijano

Mr. Quijano, age 43, holds an operator's license in Hawaii.

Brian Shoup

Mr. Shoup, age 53, holds an operator's license in Ohio.

Ronald Sims

Mr. Sims, age 65, holds a class A CDL in Florida.

Edward Spreen

Mr. Spreen, age 35, holds an operator's license in Utah.

Fernando Valasquez

Mr. Valasquez, age 31, holds an operator's license in Texas.

Kyle Voss

Mr. Voss, age 26, holds an operator's license in Wisconsin.

Daron Washington

Mr. Washington, age 50, holds a class A CDL in Illinois.

William Weeaks

Mr. Weeaks, age 33, holds an operator's license in Oklahoma.

III. Request for Comments

In accordance with 49 U.S.C. 31136(e) and 31315, FMCSA requests public comment from all interested persons on the exemption petitions described in this notice. We will consider all comments received before the close of business on the closing date indicated in the date section of the notice.

IV. Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2015-0328 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period. FMCSA may issue a final determination any time after the close of the comment period.

V. Viewing Comments and Documents

To view comments, as well as any documents mentioned in this preamble, go to http://www.regulations.gov and in the search box insert the docket number FMCSA-2015-0328 and click “Search.” Next, click “Open Docket Folder” and you will find all documents and comments related to this notice.

Issued on: February 24, 2016.
Larry W. Minor,
Associate Administrator for Policy.

[FR Doc. 2016-04973 Filed 3-4-16; 8:45 am]

BILLING CODE 4910-EX-P